DEPARTMENT OF COMMERCE

International Trade Administration

[C-533-821]

Certain Hot-Rolled Carbon Steel Flat Products from India: Extension of Time Limit for Final Results of Countervailing Duty Administrative Review

AGENCY: Import Administration, International Trade Administration, Department of Commerce.

FOR FURTHER INFORMATION CONTACT: Gayle Longest, AD/CVD Operations, Office 3, Import Administration, International Trade Administration, U.S. Department of Commerce, Room 4014, 14th Street and Constitution Ave., NW, Washington, DC 20230, telephone: (202) 482-3338.

SUPPLEMENTARY INFORMATION:

Background

On January 11, 2010, the U.S. Department of Commerce (“the Department”) published a notice of preliminary results of the administrative review of the countervailing duty order on certain hot-rolled carbon steel flat products from India covering the period January 1, 2008, through December 31, 2008. See Certain Hot-Rolled Carbon Steel Flat Products From India: Preliminary Results of Countervailing Duty Administrative Review, 75 FR 1496 (January 11, 2010). Therefore, the final results were originally due no later than May 11, 2010. As explained in the memorandum from the Deputy Assistant Secretary for Import Administration, the Department has exercised its discretion to toll deadlines for the duration of the closure of the Federal Government from February 5, through February 12, 2010. Thus, all deadlines in this segment of the proceeding have been extended by seven days. The revised deadline for the final results of this review is now May 18, 2010. See Memorandum to the Record from Ronald Lorentzen, DAS for Import Administration, regarding “Tolling of Administrative Deadlines As a Result of the Government Closure During the Recent Snowstorm,” dated February 12, 2010.

Extension of Time Limit for Final Results

Section 751(a)(3)(A) of the Tariff Act of 1930, as amended (“the Act”), requires the Department to make a final determination within 120 days after the date on which the preliminary results is published. Section 751(a)(3)(A) of the Act further states that if it is not practicable to complete the review within the time period specified, the administering authority may extend the 120-day period to issue its final results to up to 180 days.

Due to the issues in this administrative review, such as the number and complexity of programs under review during the POR, we have determined that it is not practicable to complete the final results within the 120-day period. Therefore, in accordance with section 751(a)(3)(A) of the Act, we are extending the time period for issuing the final results of the review by 60 days. The final results are now due no later than July 17, 2010. However, because July 17, 2010, falls on a weekend, the actual due date will be the first business day following the weekend, i.e., July 19, 2010.

This notice is issued and published in accordance with section 751(a)(3)(A) of the Act.

Dated: April 5, 2010.
John M. Andersen,
Acting Deputy Assistant Secretary for Antidumping and Countervailing Duty Operations.

[FR Doc. 2010-8158 Filed 4-8-10; 8:45 am]

BILLING CODE 3510-DS-S